ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled a public hearing and its regular business meetings to take place in Alexandria, Virginia on Monday, Tuesday, and Wednesday, July 24-26, 2000, at the times and location noted below.

DATES: The schedule of events is as follows:

Monday, July 24, 2000

10:30 a.m.-5:00 p.m. Committee of the Whole—Americans with Disabilities Act/Architectural Barriers Act Final Rule (Closed Meeting).

Tuesday, July 25, 2000

9:00 a.m.-Noon Committee of the Whole—Americans with Disabilities Act/Architectural Barriers Act Final Rule (Closed Meeting).

1:30 p.m.-3:00 p.m. Technical Programs Committee.

3:00 p.m.-4:00 p.m. Planning and Budget Committee.

4:00 p.m.-5:00 p.m. Executive Committee.

Wednesday, July 26, 2000

1:30 p.m.-3:30 p.m. Committee of the Whole—Recreation Final Rule (Closed Meeting).

1:30 p.m.-3:30 p.m. Board Meeting.

ADDRESSES: The meetings will be held at the Embassy Suites Alexandria, 1900 Diagonal Road, Alexandria, VA.

FOR FURTHER INFORMATION CONTACT: For further information regarding the meetings, please contact Lawrence W. Roffee, Executive Director, (202) 272-5434, ext. 114 (voice) and (202) 272-5449 (TTY).

SUPPLEMENTARY INFORMATION: At the Board meeting, the Access Board will consider the following agenda items.

Open Meeting

• Executive Director's Report

• Approval of the Minutes of the March 15, 2000 Board Meeting

• Executive Committee Report—Board Meeting Policy

• Planning and Budget Committee Report—Fiscal Year 2000 Spending Plan and Status Report on Agency Goals

• Technical Programs Committee Report—Status Report on Projects

Closed Meeting

• Committee of the Whole—Americans with Disabilities Act/Architectural Barriers Act Final Rule

• Committee of the Whole—Recreation Final Rule

All meetings are accessible to persons with disabilities. Sign language interpreters and an assistive listening system are available at all meetings.

Lawrence W. Roffee,
Executive Director.

[FR Doc. 00-17502 Filed 7-10-00; 8:45 am]

BILLING CODE 8150-01-P